DEPARTMENT OF COMMERCE

Foreign-Trade Zones Board

[Order No. 1251]

Approval of Processing Activity Within Foreign-Trade Zone 113, Midlothian, Texas; Siemens Westinghouse Power Corporation (Inc.) (Industrial Power Generation Equipment); Notice of Correction

The Federal Register notice (67 FR 64095, 10-17-2002) describing Foreign-Trade Zones Board Order 1251 approving authority for Siemens Westinghouse Power Corporation (Inc.) to process industrial power generation equipment under FTZ procedures within FTZ 113 in Midlothian, Texas, is corrected as follows:

Paragraph 2, Sentence 1, should read “WHEREAS, Trade Zone Operations, Inc.,* * *”

Paragraph 7, Sentence 1, should read “Signed in Washington, DC, this 7th day of October, 2002.”

Dated: October 31, 2002.
Dennis Puccinelli,
Executive Secretary.

[FR Doc. 02-28526 Filed 11-7-02; 8:45 am]

BILLING CODE 3510-DS-P